ENVIRONMENTAL PROTECTION AGENCY

40 CFR Part 55

[EPA-R03-OAR-2011-0140; FRL-9991-70-Region 3]

Outer Continental Shelf Air Regulations; Consistency Update for Virginia

AGENCY: Environmental Protection Agency.

ACTION: Proposed rule; consistency update.

SUMMARY: The Environmental Protection Agency (EPA) is proposing to update a portion of the Outer Continental Shelf (OCS) Air Regulations. Requirements applying to OCS sources located within 25 miles of states' seaward boundaries must be updated periodically to remain consistent with the requirements of the corresponding onshore area (COA), as mandated by section 328(a)(1) of the Clean Air Act (CAA). The portion of the OCS air regulations that is being updated pertains to the requirements for OCS sources for which Virginia is the designated COA. The Commonwealth of Virginia's requirements discussed in this document are proposed to be incorporated by reference into the Code of Federal Regulations and listed in the appendix to the OCS air regulations.

DATES: Written comments must be received on or before May 16, 2019.

ADDRESSES: Submit your comments, identified by Docket ID No. EPA-R03-OAR-2011-0140 at http://www.regulations.gov, or via email to maldonado.zelma@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Mrs. Amy Johansen, Office of Permits and State Programs (3AP10), Air Protection Division, U.S. Environmental Protection Agency, Region 3, 1650 Arch Street, Philadelphia, Pennsylvania 19103. The telephone number is (215) 814-2156. Mrs. Johansen can also be reached via electronic mail at johansen.amy@epa.gov.

SUPPLEMENTARY INFORMATION:

I. Background

On September 4, 1992, EPA promulgated 40 CFR part 55,¹ which established requirements to control air pollution from OCS sources in order to attain and maintain federal and state ambient air quality standards and to comply with the provisions of part C of title I of the CAA. The regulations at 40 CFR part 55 apply to all OCS sources except those located in the Gulf of Mexico west of 87.5 degrees longitude. See 40 CFR 55.3(a). Section 328 of the CAA requires that for such sources located within 25 miles of a state's seaward boundary, the requirements shall be the same as would be applicable if the sources were located in the COA. Because the OCS requirements are based on onshore requirements, and onshore requirements may change, section 328(a)(1) requires that EPA update the OCS requirements as necessary to maintain consistency with onshore requirements.

¹ The reader may refer to the Notice of Proposed Rulemaking, December 5, 1991 (56 FR 63774), and the preamble to the final rule promulgated September 4, 1992 (57 FR 40792) for further background and information on the OCS regulations.

Pursuant to 40 CFR 55.12, consistency reviews will occur (1) at least annually; (2) upon receipt of a Notice of Intent (NOI) under 40 CFR 55.4; or (3) when a state or local agency submits a rule to EPA to be considered for incorporation by reference in 40 CFR part 55. This proposed action is being taken in response to the submittal of a NOI, received on January 28, 2019, by Dominion Energy Virginia, for the proposed installation of a 12-megawatt offshore wind technology testing facility located approximately 24 nautical miles east of the City of Virginia Beach, Virginia.² Public comments received in writing within 30 days of publication of this document will be considered by EPA before publishing a final rule.

² The EPA Region III Office was directly impacted by Congress' failure to appropriate funds during the 2018-19 federal government shutdown and resulting furlough of many federal employees, including Region III personnel. As a result, although the NOI from Dominion Energy Virginia was signed on December 21, 2018, it was not received and date-stamped by EPA Region III until January 28, 2019, when the Region III office returned to operation.

Section 328(a) of the CAA requires that EPA establish requirements to control air pollution from OCS sources located within 25 miles of States' seaward boundaries that are the same as onshore requirements. To comply with this statutory mandate, EPA must incorporate applicable onshore rules into 40 CFR part 55 as they exist onshore. This limits EPA's flexibility in deciding which requirements will be incorporated into 40 CFR part 55 and prevents EPA from making substantive changes to the requirements it incorporates. As a result, EPA may be incorporating rules into 40 CFR part 55 that do not conform to all of EPA's state implementation plan (SIP) guidance or certain requirements of the CAA. Consistency updates may result in the inclusion of state or local rules or regulations into 40 CFR part 55, even though the same rules may ultimately be disapproved for inclusion as part of the SIP. Inclusion in the OCS rule does not imply that a rule meets the requirements of the CAA for SIP approval, nor does it imply that the rule will be approved by EPA for inclusion in the SIP.

II. EPA Analysis

EPA reviewed Virginia's rules for inclusion in 40 CFR part 55 to ensure that they are rationally related to the attainment or maintenance of federal or state ambient air quality standards and compliance with part C of title I of the CAA, that they are not designed expressly to prevent exploration and development of the OCS, and that they are potentially applicable to OCS sources. See 40 CFR 55.1. EPA has also evaluated the rules to ensure they are not arbitrary or capricious. See 40 CFR 55.12(e). In addition, EPA has excluded administrative or procedural rules, and requirements that regulate toxics which are not related to the attainment and maintenance of federal and state ambient air quality standards.³

³ Each COA which has been delegated the authority to implement and enforce 40 CFR part 55 will use its administrative and procedural rules as onshore. However, in those instances where EPA has not delegated authority to implement and enforce 40 CFR part 55, EPA will use its own administrative and procedural requirements to implement the substantive requirements. See 40 CFR 55.14(c)(4).

EPA is soliciting public comments on the issues discussed in this document or on other relevant matters. These comments will be considered before taking final action. Interested parties may participate in the federal rulemaking procedure by submitting written comments to the EPA Regional Office listed in the ADDRESSES section of this Federal Register.

III. Proposed Action

EPA is proposing to incorporate the rules potentially applicable to sources for which the Commonwealth of Virginia will be the COA. The rules that EPA proposes to incorporate are applicable provisions of the Virginia Administrative Code (VAC). The rules EPA proposes to incorporate are listed in detail at the end of the document. The intended effect of proposing approval of the OCS requirements for the Virginia Department of Environmental Quality (VADEQ) is to regulate emissions from OCS sources in accordance with the requirements for onshore sources.

IV. Incorporation by Reference

In this document, EPA is proposing to include in a final EPA rule regulatory text that includes incorporation by reference. In accordance with the requirements of 1 CFR 51.5, EPA is proposing to incorporate by reference the applicable provisions of the Virginia Administrative Code set forth below. EPA has made, and will continue to make, these materials available through www.regulations.gov and at the EPA Region III Office (please contact the person identified in the For Further Information Contact section of this preamble for more information).

V. Statutory and Executive Order Reviews

Under the Clean Air Act, the Administrator is required to establish requirements to control air pollution from OCS sources located within 25 miles of states' seaward boundaries that are the same as onshore air pollution control requirements. To comply with this statutory mandate, the EPA must incorporate applicable onshore rules into 40 CFR part 55 as they exist onshore. See 42 U.S.C. 7627(a)(1); 40 CFR 55.12. Thus, in promulgating OCS consistency updates, EPA's role is to maintain consistency between OCS regulations and the regulations of onshore areas, provided that they meet the criteria of the CAA. Accordingly, this action simply updates the existing OCS requirements to make them consistent with requirements onshore, without the exercise of any policy direction by EPA. For that reason, this proposed action:

• Is not a “significant regulatory action” subject to review by the Office of Management and Budget under Executive Orders 12866 (58 FR 51735, October 4, 1993) and 13563 (76 FR 3821, January 21, 2011);

• Is not an Executive Order 13771 regulatory action because this action is not significant under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

This proposed rule incorporating by reference sections of the Virginia Administrative Code, does not apply on any Indian reservation land as defined in 18 U.S.C. 1151 or in any other area where EPA or an Indian tribe has demonstrated that a tribe has jurisdiction. In those areas of Indian country, this rule incorporating by reference sections of the Virginia Administrative Code does not have tribal implications and will not impose substantial direct costs on tribal governments or preempt tribal law as specified by Executive Order 13175 (65 FR 67249, November 9, 2000).

Under the provisions of the Paperwork Reduction Act, 44 U.S.C 3501 et seq., an agency may not conduct or sponsor, and a person is not required to respond to, a collection of information unless it displays a currently valid OMB control number. OMB has approved the information collection requirements contained in 40 CFR part 55 and, by extension, this update to the rules, and has assigned OMB control number 2060-0249. OMB approved the EPA Information Collection Request (ICR) No. 1601.08 on September 18, 2017.⁴ The current approval expires September 30, 2020. The annual public reporting and recordkeeping burden for collection of information under 40 CFR part 55 is estimated to average 643 hours per response, using the definition of burden provided in 44 U.S.C. 3502(2).

⁴ OMB's approval of the ICR can be viewed at www.reginfo.gov.

EPA is proposing to incorporate the rules potentially applicable to sources for which the Commonwealth of Virginia will be the COA. The rules that EPA proposes to incorporate are applicable provisions of the Virginia Administrative Code.

List of Subjects in 40 CFR Part 55

Environmental protection, Administrative practice and procedure, Air pollution control, Carbon monoxide, Incorporation by reference, Intergovernmental relations, Lead, Nitrogen dioxide, Outer continental shelf, Ozone, Particulate matter, Permits, Reporting and recordkeeping requirements, Sulfur oxides, Volatile organic compounds.

Dated: March 26, 2019.
Cosmo Servidio,
Regional Administrator, Region III.

Part 55 of Chapter I, title 40 of the Code of Federal Regulations is proposed to be amended as follows:

PART 55—OUTER CONTINENTAL SHELF AIR REGULATIONS

1. The authority citation for part 55 continues to read as follows:

Authority: Section 328 of the Clean Air Act (42 U.S.C. 7401 et seq.) as amended by Public Law 101-549.

2. Section 55.14 is amended by revising paragraphs (e)(22)(i)(A) to read as follows:

§ 55.14 Requirements that apply to OCS sources located within 25 miles of States' seaward boundaries, by State.

* * * * *

(e) * * *

(22) * * *

(i) * * *

(A) Commonwealth of Virginia Requirements Applicable to OCS Sources, February 20, 2019.

* * * * *

3. Appendix A to part 55 is amended by revising paragraph (a)(1) under the heading “Virginia” to read as follows:

Appendix A to Part 55—Listing of State and Local Requirements Incorporated by Reference Into Part 55, by State

* * * * *

Virginia

(a) * * *

(1) The following Commonwealth of Virginia requirements are applicable to OCS Sources, February 20, 2019, Commonwealth of Virginia—Virginia Department of Environmental Quality.

The following sections of Virginia Regulations for the Control and Abatement of Air Pollution Control (VAC), Title 9, Agency 5:

Chapter 10—General Definitions

(Effective 05/19/2017)

9VAC5-10-10. General.

9VAC5-10-20. Terms defined.

9VAC5-10-30. Abbreviations.

Chapter 20—General Provisions

(Effective 02/19/2018)

Part I—Administrative

9VAC5-20-10. Applicability.

9VAC5-20-21. Documents incorporated by reference.

9VAC5-20-50. Variances.

9VAC5-20-70. Circumvention.

9VAC5-20-80. Relationship of state regulations to federal regulations.

9VAC5-20-121. Air quality program policies and procedures.

Part II—Air Quality Programs

9VAC5-20-160. Registration.

9VAC5-20-170. Control programs.

9VAC5-20-180. Facility and control equipment maintenance or malfunction.

9VAC5-20-200. Air quality control regions.

9VAC5-20-203. Maintenance areas.

9VAC5-20-204. Nonattainment areas.

9VAC5-20-205. Prevention of significant deterioration areas.

9VAC5-20-206. Volatile organic compound and nitrogen oxides emission control areas.

9VAC5-20-220. Shutdown of a stationary source.

9VAC5-20-230. Certification of documents.

Chapter 30—Ambient Air Quality Standards

(Effective 05/15/2017)

9VAC5-30-10. General.

9VAC5-30-15. Reference conditions.

9VAC5-30-30. Sulfur oxides (sulfur dioxide).

9VAC5-30-40. Carbon monoxide.

9VAC5-30-50. Ozone (1-hour).

9VAC5-30-55. Ozone (8-hour, 0.08 ppm).

9VAC5-30-56. Ozone (8-hour, 0.075 ppm).

9VAC5-30-57. Ozone (8-hour, 0.070 ppm).

9VAC5-30-60. Particulate matter (PM10).

9VAC5-30-65. Particulate matter (PM2.5).

9VAC5-30-66. Particulate matter (PM2.5).

9VAC5-30-67. Particulate matter (PM2.5).

9VAC5-30-70. Oxides of nitrogen with nitrogen dioxide as the indicator.

9VAC5-30-80. Lead.

Chapter 40—Existing Stationary Sources

Part I—Special Provisions

(Effective 12/12/2007)

9VAC5-40-10. Applicability.

9VAC5-40-20. Compliance.

9VAC5-40-21. Compliance schedules.

9VAC5-40-22. Interpretation of emission standards based on process weight-rate tables.

9VAC5-40-30. Emission testing.

9VAC5-40-40. Monitoring.

9VAC5-40-41. Emission monitoring procedures for existing sources.

9VAC5-40-50. Notification, records and reporting.

Part II—Emission Standards

Article 1—Visible Emissions and Fugitive Dust/Emissions

(Effective 02/01/2003)

9VAC5-40-60. Applicability and designation of affected facility.

9VAC5-40-70. Definitions.

9VAC5-40-80. Standard for visible emissions.

9VAC5-40-90. Standard for fugitive dust/emissions.

9VAC5-40-100. Monitoring.

9VAC5-40-110. Test methods and procedures.

9VAC5-40-120. Waivers.

Article 4—General Process Operations

(Effective 12/15/2006)

9VAC5-40-240. Applicability and designation of affected facility.

9VAC5-40-250. Definitions.

9VAC5-40-260. Standard for particulate matter (AQCR 1-6).

9VAC5-40-270. Standard for particulate matter (AQCR 7).

9VAC5-40-280. Standard for sulfur dioxide.

9VAC5-40-290. Standard for hydrogen sulfide.

9VAC5-40-320. Standard for visible emissions.

9VAC5-40-330. Standard for fugitive dust/emissions.

9VAC5-40-350. Standard for toxic pollutants.

9VAC5-40-360. Compliance.

9VAC5-40-370. Test methods and procedures.

9VAC5-40-380. Monitoring.

9VAC5-40-390. Notification, records and reporting.

9VAC5-40-400. Registration.

9VAC5-40-410. Facility and control equipment maintenance or malfunction.

9VAC5-40-420. Permits.

Article 7—Incinerators

(Effective 01/01/1985)

9VAC5-40-730. Applicability and designation of affected facility.

9VAC5-40-740. Definitions.

9VAC5-40-750. Standard for particulate matter.

9VAC5-40-760. Standard for visible emissions.

9VAC5-40-770. Standard for fugitive dust/emissions.

9VAC5-40-790. Standard for toxic pollutants.

9VAC5-40-800. Prohibition of flue-fed incinerators.

9VAC5-40-810. Compliance.

9VAC5-40-820. Test methods and procedures.

9VAC5-40-830. Monitoring.

9VAC5-40-840. Notification, records and reporting.

9VAC5-40-850. Registration.

9VAC5-40-860. Facility and control equipment maintenance or malfunction.

9VAC5-40-870. Permits.

Article 8—Fuel Burning Equipment

(Effective 01/01/2002)

9VAC5-40-880. Applicability and designation of affected facility.

9VAC5-40-890. Definitions.

9VAC5-40-900. Standard for particulate matter.

9VAC5-40-910. Emission allocation system.

9VAC5-40-920. Determination of collection equipment efficiency factor.

9VAC5-40-930. Standard for sulfur dioxide.

9VAC5-40-940. Standard for visible emissions.

9VAC5-40-950. Standard for fugitive dust/emissions.

9VAC5-40-970. Standard for toxic pollutants.

9VAC5-40-980. Compliance.

9VAC5-40-990. Test methods and procedures.

9VAC5-40-1000. Monitoring.

9VAC5-40-1010. Notification, records and reporting.

9VAC5-40-1020. Registration.

9VAC5-40-1030. Facility and control equipment maintenance or malfunction.

9VAC5-40-1040. Permits.

Article 14—Sand-Gravel Processing; Stone Quarrying & Processing

(Effective 01/01/1985)

9VAC5-40-1820. Applicability and designation of affected facility.

9VAC5-40-1830. Definitions.

9VAC5-40-1840. Standard for particulate matter.

9VAC5-40-1850. Standard for visible emissions.

9VAC5-40-1860. Standard for fugitive dust/emissions.

9VAC5-40-1880. Standard for toxic pollutants.

9VAC5-40-1890. Compliance.

9VAC5-40-1900. Test methods and procedures.

9VAC5-40-1910. Monitoring.

9VAC5-40-1920. Notification, records and reporting.

9VAC5-40-1930. Registration.

9VAC5-40-1940. Facility and control equipment maintenance or malfunction.

9VAC5-40-1950. Permits.

Article 17—Woodworking Operations

(Effective 01/01/1985)

9VAC5-40-2250. Applicability and designation of affected facility.

9VAC5-40-2260. Definitions.

9VAC5-40-2270. Standard for particulate matter.

9VAC5-40-2280. Standard for visible emissions.

9VAC5-40-2290. Standard for fugitive dust/emissions.

9VAC5-40-2310. Standard for toxic pollutants.

9VAC5-40-2320. Compliance.

9VAC5-40-2330. Test methods and procedures.

9VAC5-40-2340. Monitoring.

9VAC5-40-2350. Notification, records and reporting.

9VAC5-40-2360. Registration.

9VAC5-40-2370. Facility and control equipment maintenance or malfunction.

9VAC5-40-2380. Permits.

Article 18—Primary and Secondary Metal Operations

(Effective 01/01/1985)

9VAC5-40-2390. Applicability and designation of affected facility.

9VAC5-40-2400. Definitions.

9VAC5-40-2410. Standard for particulate matter.

9VAC5-40-2420. Standard for sulfur oxides.

9VAC5-40-2430. Standard for visible emissions.

9VAC5-40-2440. Standard for fugitive dust/emissions.

9VAC5-40-2460. Standard for toxic pollutants.

9VAC5-40-2470. Compliance.

9VAC5-40-2480. Test methods and procedures.

9VAC5-40-2490. Monitoring.

9VAC5-40-2500. Notification, records and reporting.

9VAC5-40-2510. Registration.

9VAC5-40-2520. Facility and control equipment maintenance or malfunction.

9VAC5-40-2530. Permits.

Article 19—Lightweight Aggregate Process Operations

(Effective 01/01/1985)

9VAC5-40-2540. Applicability and designation of affected facility.

9VAC5-40-2550. Definitions.

9VAC5-40-2560. Standard for particulate matter.

9VAC5-40-2570. Standard for sulfur oxides.

9VAC5-40-2580. Standard for visible emissions.

9VAC5-40-2590. Standard for fugitive dust/emissions.

9VAC5-40-2610. Standard for toxic pollutants.

9VAC5-40-2620. Compliance.

9VAC5-40-2630. Test methods and procedures.

9VAC5-40-2640. Monitoring.

9VAC5-40-2650. Notification, records and reporting.

9VAC5-40-2660. Registration.

9VAC5-40-2670. Facility and control equipment maintenance or malfunction.

9VAC5-40-2680. Permits.

Article 24—Solvent Metal Cleaning Operations

(Effective 03/24/2004)

9VAC5-40-3260. Applicability and designation of affected facility.

9VAC5-40-3270. Definitions.

9VAC5-40-3280. Standard for volatile organic compounds.

9VAC5-40-3290. Control technology guidelines.

9VAC5-40-3300. Standard for visible emissions.

9VAC5-40-3310. Standard for fugitive dust/emissions.

9VAC5-40-3330. Standard for toxic pollutants.

9VAC5-40-3340. Compliance.

9VAC5-40-3350. Test methods and procedures.

9VAC5-40-3360. Monitoring.

9VAC5-40-3370. Notification, records and reporting.

9VAC5-40-3380. Registration.

9VAC5-40-3390. Facility and control equipment maintenance or malfunction.

9VAC5-40-3400. Permits.

Article 25—VOC Storage & Transfer Operations

(Effective 07/01/1991)

9VAC5-40-3410. Applicability and designation of affected facility.

9VAC5-40-3420. Definitions.

9VAC5-40-3430. Standard for volatile organic compounds.

9VAC5-40-3440. Control technology guidelines.

9VAC5-40-3450. Standard for visible emissions.

9VAC5-40-3460. Standard for fugitive dust/emissions.

9VAC5-40-3480. Standard for toxic pollutants.

9VAC5-40-3490. Compliance.

9VAC5-40-3500. Test methods and procedures.

9VAC5-40-3510. Monitoring.

9VAC5-40-3520. Notification, records and reporting.

9VAC5-40-3530. Registration.

9VAC5-40-3540. Facility and control equipment maintenance or malfunction.

9VAC5-40-3550. Permits.

Article 34—Miscellaneous Metal Parts/Products Coating Application

(Effective 02/01/2016)

9VAC5-40-4760. Applicability and designation of affected facility.

9VAC5-40-4770. Definitions.

9VAC5-40-4780. Standard for volatile organic compounds.

9VAC5-40-4790. Control technology guidelines.

9VAC5-40-4800. Standard for visible emissions.

9VAC5-40-4810. Standard for fugitive dust/emissions.

9VAC5-40-4830. Standard for toxic pollutants.

9VAC5-40-4840. Compliance.

9VAC5-40-4850. Test methods and procedures.

9VAC5-40-4860. Monitoring.

9VAC5-40-4870. Notification, records and reporting.

9VAC5-40-4880. Registration.

9VAC5-40-4890. Facility and control equipment maintenance or malfunction.

9VAC5-40-4900. Permits.

Article 37—Petroleum Liquid Storage and Transfer Operations

(Effective 07/30/2015)

9VAC5-40-5200. Applicability and designation of affected facility.

9VAC5-40-5210. Definitions.

9VAC5-40-5220. Standard for volatile organic compounds.

9VAC5-40-5230. Control technology guidelines.

9VAC5-40-5240. Standard for visible emissions.

9VAC5-40-5250. Standard for fugitive dust/emissions.

9VAC5-40-5270. Standard for toxic pollutants.

9VAC5-40-5280. Compliance.

9VAC5-40-5290. Test methods and procedures.

9VAC5-40-5300. Monitoring.

9VAC5-40-5310. Notification, records and reporting.

9VAC5-40-5320. Registration.

9VAC5-40-5330. Facility and control equipment maintenance or malfunction.

9VAC5-40-5340. Permits.

Article 41—Mobile Sources

(Effective 08/01/1991)

9VAC5-40-5650. Applicability and designation of affected facility.

9VAC5-40-5660. Definitions.

9VAC5-40-5670. Motor vehicles.

9VAC5-40-5680. Other mobile sources.

9VAC5-40-5690. Export/import of motor vehicles.

Article 45—Commercial/Industrial Solid Waste Incinerators

(Effective 11/16/2016)

9VAC5-40-6250. Applicability and designation of affected facility.

9VAC5-40-6260. Definitions.

9VAC5-40-6270. Standard for particulate matter.

9VAC5-40-6360. Standard for visible emissions.

9VAC5-40-6370. Standard for fugitive dust/emissions.

9VAC5-40-6390. Standard for toxic pollutants.

9VAC5-40-6400. Operator training and qualification.

9VAC5-40-6410. Waste management plan.

9VAC5-40-6420. Compliance schedule.

9VAC5-40-6430. Operating limits.

9VAC5-40-6440. Facility and control equipment maintenance or malfunction.

9VAC5-40-6450. Test methods and procedures.

9VAC5-40-6460. Compliance.

9VAC5-40-6470. Monitoring.

9VAC5-40-6480. Recordkeeping and reporting.

9VAC5-40-6490. Requirements for air curtain incinerators.

9VAC5-40-6500. Registration.

9VAC5-40-6510. Permits.

9VAC5-40-6520. Documents Incorporated by Reference.

Article 46—Small Municipal Waste Combustors

(Effective 05/04/2005)

9VAC5-40-6550. Applicability and designation of affected facility.

9VAC5-40-6560. Definitions.

9VAC5-40-6570. Standard for particulate matter.

9VAC5-40-6580. Standard for carbon monoxide.

9VAC5-40-6590. Standard for dioxins/furans.

9VAC5-40-6600. Standard for hydrogen chloride.

9VAC5-40-6610. Standard for sulfur dioxide.

9VAC5-40-6620. Standard for nitrogen oxides.

9VAC5-40-6630. Standard for lead.

9VAC5-40-6640. Standard for cadmium.

9VAC5-40-6650. Standard for mercury.

9VAC5-40-6660. Standard for visible emissions.

9VAC5-40-6670. Standard for fugitive dust/emissions.

9VAC5-40-6690. Standard for toxic pollutants.

9VAC5-40-6700. Operator training and certification.

9VAC5-40-6710. Compliance schedule.

9VAC5-40-6720. Operating requirements.

9VAC5-40-6730. Compliance.

9VAC5-40-6740. Test methods and procedures.

9VAC5-40-6750. Monitoring.

9VAC5-40-6760. Recordkeeping.

9VAC5-40-6770. Reporting.

9VAC5-40-6780. Requirements for air curtain incinerators that burn 100 percent yard waste.

9VAC5-40-6790. Registration.

9VAC5-40-6800. Facility and control equipment maintenance or malfunction.

9VAC5-40-6810. Permits.

Article 47—Solvent Cleaning

(Effective 03/24/2004)

9VAC5-40-6820. Applicability and designation of affected facility.

9VAC5-40-6830. Definitions.

9VAC5-40-6840. Standard for volatile organic compounds.

9VAC5-40-6850. Standard for visible emissions.

9VAC5-40-6860. Standard for fugitive dust/emissions.

9VAC5-40-6880. Standard for toxic pollutants.

9VAC5-40-6890. Compliance.

9VAC5-40-6900. Compliance schedules.

9VAC5-40-6910. Test methods and procedures.

9VAC5-40-6920. Monitoring.

9VAC5-40-6930. Notification, records and reporting.

9VAC5-40-6940. Registration.

9VAC5-40-6950. Facility and control equipment maintenance or malfunction.

9VAC5-40-6960. Permits.

Article 48—Mobile Equipment Repair and Refinishing

(Effective 10/01/2013)

9VAC5-40-6970. Applicability and designation of affected facility.

9VAC5-40-6975. Exemptions.

9VAC5-40-6980. Definitions.

9VAC5-40-6990. Standard for volatile organic compounds.

9VAC5-40-7000. Standard for visible emissions.

9VAC5-40-7010. Standard for fugitive dust/emissions.

9VAC5-40-7030. Standard for toxic pollutants.

9VAC5-40-7040. Compliance.

9VAC5-40-7050. Compliance schedule.

9VAC5-40-7060. Test methods and procedures.

9VAC5-40-7070. Monitoring.

9VAC5-40-7080. Notification, records and reporting.

9VAC5-40-7090. Registration.

9VAC5-40-7100. Facility and control equipment maintenance or malfunction.

9VAC5-40-7110. Permits.

Article 51—Stationary Sources Subject to Case-by-Case RACT Determinations

(Effective 12/02/2015)

9VAC5-40-7370. Applicability and designation of affected facility.

9VAC5-40-7380. Definitions.

9VAC5-40-7390. Standard for volatile organic compounds (1-hour ozone standard)

9VAC5-40-7400. Standard for volatile organic compounds (8-hour ozone standard).

9VAC5-40-7410. Standard for nitrogen oxides (1-hour ozone standard).

9VAC5-40-7420. Standard for nitrogen oxides (8-hour ozone standard).

9VAC5-40-7430. Presumptive reasonably available control technology guidelines for stationary sources of nitrogen oxides.

9VAC5-40-7440. Standard for visible emissions.

9VAC5-40-7450. Standard for fugitive dust/emissions.

9VAC5-40-7470. Standard for toxic pollutants.

9VAC5-40-7480. Compliance.

9VAC5-40-7490. Test methods and procedures.

9VAC5-40-7500. Monitoring.

9VAC5-40-7510. Notification, records and reporting.

9VAC5-40-7520. Registration.

9VAC5-40-7530. Facility and control equipment maintenance or malfunction.

9VAC5-40-7540. Permits.

Article 54—Large Municipal Waste Combustors

(Effective 07/01/2003)

9VAC5-40-7950. Applicability and designation of affected facility.

9VAC5-40-7960. Definitions.

9VAC5-40-7970. Standard for particulate matter.

9VAC5-40-7980. Standard for carbon monoxide.

9VAC5-40-7990. Standard for cadmium.

9VAC5-40-8000. Standard for lead.

9VAC5-40-8010. Standard for mercury.

9VAC5-40-8020. Standard for sulfur dioxide.

9VAC5-40-8030. Standard for hydrogen chloride.

9VAC5-40-8040. Standard for dioxin/furan.

9VAC5-40-8050. Standard for nitrogen oxides.

9VAC5-40-8060. Standard for visible emissions.

9VAC5-40-8070. Standard for fugitive dust/emissions.

9VAC5-40-8090. Standard for toxic pollutants.

9VAC5-40-8100. Compliance.

9VAC5-40-8110. Compliance schedules.

9VAC5-40-8120. Operating practices.

9VAC5-40-8130. Operator training and certification.

9VAC5-40-8140. Test Methods and Procedures.

9VAC5-40-8150. Monitoring.

9VAC5-40-8160. Notification, Records and Reporting.

9VAC5-40-8170. Registration.

9VAC5-40-8180. Facility and control equipment maintenance or malfunction.

9VAC5-40-8190. Permits.

Chapter 50—New and Modified Stationary Sources

Part I—Special Provisions

(Effective 12/12/2007)

9VAC5-50-10. Applicability.

9VAC5-50-20. Compliance.

9VAC5-50-30. Performance testing.

9VAC5-50-40. Monitoring.

9VAC5-50-50. Notification, records and reporting.

Part II—Emission Standards

Article 1—Visible Emissions and Fugitive Dust/Emissions

(Effective 02/01/2003)

9VAC5-50-60. Applicability and designation of affected facility.

9VAC5-50-70. Definitions.

9VAC5-50-80. Standard for visible emissions.

9VAC5-50-90. Standard for fugitive dust/emissions.

9VAC5-50-100. Monitoring.

9VAC5-50-110. Test methods and procedures.

9VAC5-50-120. Waivers.

Article 4—Stationary sources

(Effective 11/07/2012)

9VAC5-50-240. Applicability and designation of affected facility.

9VAC5-50-250. Definitions.

9VAC5-50-260. Standard for stationary sources.

9VAC5-50-270. Standard for major stationary sources (nonattainment areas).

9VAC5-50-280. Standard for major stationary sources (prevention of significant deterioration areas).

9VAC5-50-290. Standard for visible emissions.

9VAC5-50-300. Standard for fugitive dust/emissions.

9VAC5-50-320. Standard for toxic pollutants.

9VAC5-50-330. Compliance.

9VAC5-50-340. Test methods and procedures.

9VAC5-50-350. Monitoring.

9VAC5-50-360. Notification, records and reporting.

9VAC5-50-370. Registration.

9VAC5-50-380. Facility and control equipment maintenance or malfunction.

9VAC5-50-390. Permits.

Article 5—EPA New Source Performance Standards

(Effective 02/20/2019)

9VAC5-50-400. General.

9VAC5-50-405. Authority to implement and enforce standards as authorized by EPA.

9VAC5-50-410. Designated standards of performance.

9VAC5-50-420. Word or phrase substitutions.

Chapter 60—Hazardous Air Pollutant Sources

Part I—Special Provisions

(Effective 08/01/2002)

9VAC5-60-10. Applicability.

9VAC5-60-20. Compliance.

9VAC5-60-30. Emission testing.

9VAC5-60-40. Monitoring.

9VAC5-60-50. Notification, records and reporting.

Part II—Emission Standards

Article 1—EPA National Emissions Standards for Hazardous Air Pollutants

(Effective 02/20/2019)

9VAC5-60-60. General.

9VAC5-60-65. Authority to implement and enforce standards as authorized by EPA.

9VAC5-60-70. Designated emission standards.

9VAC5-60-80. Word or phrase substitutions.

Article 2—EPA Maximum Achievable Control Technology Standards

(Effective 03/02/2011)

9VAC5-60-90. General.

9VAC5-60-95. Authority to implement and enforce standards as authorized by EPA.

9VAC5-60-100. Designated emission standards.

9VAC5-60-110. Word or phrase substitutions.

Article 3—Control Technology Determinations for Major Sources of Hazardous Air Pollutants

(Effective 07/01/2004)

9VAC5-60-120. Applicability.

9VAC5-60-130. Definitions.

9VAC5-60-140. Approval process for new and existing affected sources.

9VAC5-60-150. Application content for case-by-case MACT determinations.

9VAC5-60-160. Preconstruction review procedures for new affected sources subject to 9VAC5-60-140 C 1.

9VAC5-60-170. Maximum achievable control technology (MACT) determinations for affected sources subject to case-by-case determination of equivalent emission limitations.

9VAC5-60-180. Requirements for case-by-case determination of equivalent emission limitations after promulgation of a subsequent MACT standard.

Article 4—Toxic Pollutants From Existing Sources

(Effective 05/01/2002)

9VAC5-60-200. Applicability and designation of affected facility.

9VAC5-60-210. Definitions.

9VAC5-60-220. Standard for toxic pollutants.

9VAC5-60-230. Significant ambient air concentration guidelines.

9VAC5-60-240. Submittal of information.

9VAC5-60-250. Determination of ambient air concentrations.

9VAC5-60-260. Compliance.

9VAC5-60-270. Public participation.

Article 5—Toxic Pollutants From New and Modified Sources

(Effective 05/01/2002)

9VAC5-60-300. Applicability and designation of affected facility.

9VAC5-60-310. Definitions.

9VAC5-60-320. Standard for toxic pollutants.

9VAC5-60-330. Significant ambient air concentration guidelines.

9VAC5-60-340. Submittal of information.

9VAC5-60-350. Determination of ambient air concentrations.

9VAC5-60-360. Compliance.

9VAC5-60-370. Public participation.

Chapter 70—Air Pollution Episode Prevention

(Effective 04/01/1999)

9VAC5-70-10. Applicability.

9VAC5-70-20. Definitions.

9VAC5-70-30. General.

9VAC5-70-40. Episode determination.

9VAC5-70-50. Standby emission reduction plans.

9VAC5-70-60. Control requirements.

9VAC5-70-70. Local air pollution control agency participation.

Chapter 80—Permits for Stationary Sources

Part I—Permit Actions Before the Board

(Effective 11/12/2009)

9VAC5-80-5. Definitions.

9VAC5-80-15. Applicability.

9VAC5-80-25. Direct consideration of permit actions by the board.

9VAC5-80-35. Public hearings to contest permit actions.

Part II—Permit Procedures

Article 1—Federal (Title V) Operating Permits for Stationary Sources

(Effective 03/02/2011)

9VAC5-80-50. Applicability.

9VAC5-80-60. Definitions.

9VAC5-80-70. General.

9VAC5-80-80. Applications.

9VAC5-80-90. Application information required.

9VAC5-80-100. Emission caps.

9VAC5-80-110. Permit content.

9VAC5-80-120. General permits.

9VAC5-80-130. Temporary sources.

9VAC5-80-140. Permit shield.

9VAC5-80-150. Action on permit application.

9VAC5-80-160. Transfer of permits.

9VAC5-80-170. Permit renewal and expiration.

9VAC5-80-180. Permanent shutdown for emissions trading.

9VAC5-80-190. Changes to permits.

9VAC5-80-200. Administrative permit amendments.

9VAC5-80-210. Minor permit modifications.

9VAC5-80-220. Group processing of minor permit modifications.

9VAC5-80-230. Significant modification procedures.

9VAC5-80-240. Reopening for cause.

9VAC5-80-250. Malfunction.

9VAC5-80-260. Enforcement.

9VAC5-80-270. Public participation.

9VAC5-80-280. Operational flexibility.

9VAC5-80-290. Permit review by EPA and affected states.

9VAC5-80-300. Voluntary inclusions of additional state-only requirements as applicable state requirements in the permit.

Article 2—Permit Program (Title V) Fees for Stationary Sources

(Effective 01/01/2018)

9VAC5-80-310. Applicability.

9VAC5-80-320. Definitions.

9VAC5-80-330. General.

9VAC5-80-340. Annual permit program fee calculation prior to January 1, 2018.

9VAC5-80-342. Annual Permit program emissions fee calculation on and after January 2, 2018.

9VAC5-80-350. Annual permit program emissions fee payment.

Article 4—Insignificant Activities

(Effective 01/01/2001)

9VAC5-80-710. General.

9VAC5-80-720. Insignificant activities.

Article 5—State Operating Permits

(Effective 12/31/2008)

9VAC5-80-800. Applicability.

9VAC5-80-810. Definitions.

9VAC5-80-820. General.

9VAC5-80-830. Applications.

9VAC5-80-840. Application information required.

9VAC5-80-850. Standards and conditions for granting permits.

9VAC5-80-860. Action on permit application.

9VAC5-80-870. Application review and analysis.

9VAC5-80-880. Compliance determination and verification by testing.

9VAC5-80-890. Monitoring requirements.

9VAC5-80-900. Reporting requirements.

9VAC5-80-910. Existence of permit no defense.

9VAC5-80-920. Circumvention.

9VAC5-80-930. Compliance with local zoning requirements.

9VAC5-80-940. Transfer of permits.

9VAC5-80-950. Termination of permits.

9VAC5-80-960. Changes to permits.

9VAC5-80-970. Administrative permit amendments.

9VAC5-80-980. Minor permit amendments.

9VAC5-80-990. Significant amendment procedures.

9VAC5-80-1000. Reopening for cause.

9VAC5-80-1010. Enforcement.

9VAC5-80-1020. Public participation.

9VAC5-80-1030. General permits.

9VAC5-80-1040. Review and evaluation of article.

Article 6—Permits for New and Modified Stationary Sources

(Effective 03/27/2014)

9VAC5-80-1100. Applicability.

9VAC5-80-1105. Permit Exemptions.

9VAC5-80-1110. Definitions.

9VAC5-80-1120. General.

9VAC5-80-1140. Applications.

9VAC5-80-1150. Application information required.

9VAC5-80-1160. Action on permit application.

9VAC5-80-1170. Public participation.

9VAC5-80-1180. Standards and conditions for granting permits.

9VAC5-80-1190. Application review and analysis.

9VAC5-80-1200. Compliance determination and verification by performance testing.

9VAC5-80-1210. Permit invalidation, suspension, revocation and enforcement.

9VAC5-80-1220. Existence of permit no defense.

9VAC5-80-1230. Compliance with local zoning requirements.

9VAC5-80-1240. Transfer of permits.

9VAC5-80-1250. General permits.

9VAC5-80-1255. Actions to combine permit terms and conditions.

9VAC5-80-1260. Actions to change permits.

9VAC5-80-1270. Administrative permit amendments.

9VAC5-80-1280. Minor permit amendments.

9VAC5-80-1290. Significant amendment procedures.

9VAC5-80-1300. Reopening for cause.

Article 7—Permits for New and Reconstructed Major Sources of HAPs

(Effective 12/31/2008)

9VAC5-80-1400. Applicability.

9VAC5-80-1410. Definitions.

9VAC5-80-1420. General.

9VAC5-80-1430. Applications.

9VAC5-80-1440. Application information required.

9VAC5-80-1450. Action on permit application.

9VAC5-80-1460. Public participation.

9VAC5-80-1470. Standards and conditions for granting permits.

9VAC5-80-1480. Application review and analysis.

9VAC5-80-1490. Compliance determination and verification by performance testing.

9VAC5-80-1500. Permit invalidation, rescission, revocation and enforcement.

9VAC5-80-1510. Existence of permit no defense.

9VAC5-80-1520. Compliance with local zoning requirements.

9VAC5-80-1530. Transfer of permits.

9VAC5-80-1540. Changes to permits.

9VAC5-80-1550. Administrative permit amendments.

9VAC5-80-1560. Minor permit amendments.

9VAC5-80-1570. Significant amendment procedures.

9VAC5-80-1580. Reopening for cause.

9VAC5-80-1590. Requirements for constructed or reconstructed major sources subject to a subsequently promulgated MACT standard or MACT requirements.

Article 8—Permits for Major Stationary Sources and Modifications—PSD Areas

(Effective 08/13/2015)

9VAC5-80-1605. Applicability.

9VAC5-80-1615. Definitions.

9VAC5-80-1625. General.

9VAC5-80-1635. Ambient air increments.

9VAC5-80-1645. Ambient air ceilings.

9VAC5-80-1655. Applications.

9VAC5-80-1665. Compliance with local zoning requirements.

9VAC5-80-1675. Compliance determination and verification by performance testing.

9VAC5-80-1685. Stack heights.

9VAC5-80-1695. Exemptions.

9VAC5-80-1705. Control technology review.

9VAC5-80-1715. Source impact analysis.

9VAC5-80-1725. Air quality models.

9VAC5-80-1735. Air quality analysis.

9VAC5-80-1745. Source information.

9VAC5-80-1755. Additional impact analyses.

9VAC5-80-1765. Sources affecting federal class I areas—additional requirements.

9VAC5-80-1773. Action on permit application.

9VAC5-80-1775. Public participation.

9VAC5-80-1785. Source obligation.

9VAC5-80-1795. Environmental impact statements.

9VAC5-80-1805. Disputed permits.

9VAC5-80-1815. Interstate pollution abatement.

9VAC5-80-1825. Innovative control technology.

9VAC5-80-1865. Actuals plantwide applicability limits (PALs).

9VAC5-80-1915. Actions to combine permit terms and conditions.

9VAC5-80-1925. Actions to change permits.

9VAC5-80-1935. Administrative permit amendments.

9VAC5-80-1945. Minor permit amendments.

9VAC5-80-1955. Significant amendment procedures.

9VAC5-80-1965. Reopening for cause.

9VAC5-80-1975. Transfer of permits.

9VAC5-80-1985. Permit invalidation, suspension, revocation, and enforcement.

9VAC5-80-1995. Existence of permit no defense.

Article 9—Permits for Major Stationary Sources and Modifications—Nonattainment Areas

(Effective 05/15/2017)

9VAC5-80-2000. Applicability.

9VAC5-80-2010. Definitions.

9VAC5-80-2020. General.

9VAC5-80-2030. Applications.

9VAC5-80-2040. Application information required.

9VAC5-80-2050. Standards and conditions for granting permits.

9VAC5-80-2060. Action on permit application.

9VAC5-80-2070. Public participation.

9VAC5-80-2080. Compliance determination and verification by performance testing.

9VAC5-80-2090. Application review and analysis.

9VAC5-80-2091. Source obligation.

9VAC5-80-2110. Interstate pollution abatement.

9VAC5-80-2120. Offsets.

9VAC5-80-2130. De minimis increases and stationary source modification alternatives for ozone nonattainment areas classified as serious or severe in 9VAC5-20-204.

9VAC5-80-2140. Exemptions.

9VAC5-80-2144. Actuals plantwide applicability limits (PALs).

9VAC5-80-2150. Compliance with local zoning requirements.

9VAC5-80-2170. Transfer of permits.

9VAC5-80-2180. Permit invalidation, suspension, revocation and enforcement.

9VAC5-80-2190. Existence of permit no defense.

9VAC5-80-2195. Actions to combine permit terms and conditions.

9VAC5-80-2200. Actions to change permits.

9VAC5-80-2210. Administrative permit amendments.

9VAC5-80-2220. Minor permit amendments.

9VAC5-80-2230. Significant amendment procedures.

9VAC5-80-2240. Reopening for cause.

Article 10—Permit Application Fees for Stationary Sources

(Effective 01/01/2018)

9VAC5-80-2250. Applicability.

9VAC5-80-2260. Definitions.

9VAC5-80-2270. General.

9VAC5-80-2280. Permit application fee calculation prior to January 1, 2018.

9VAC5-80-2282. Permit application fee calculation on and after January 1, 2018.

9VAC5-80-2290. Permit application fee payment.

Article 11—Annual Permit Maintenance Fees for Stationary Sources

(Effective 01/01/2018)

9VAC5-80-2310. Applicability.

9VAC5-80-2320. Definitions.

9VAC5-80-2330. General.

9VAC5-80-2340. Annual Permit Maintenance Fee Calculation Prior to January 1, 2018.

9VAC5-80-2342. Annual Permit Maintenance Fee Calculation on and After January 1, 2018.

9VAC5-80-2350. Annual Permit Maintenance Fee Payment.

Chapter 85—Permits for Stationary Sources of Pullutants Subject to Regulation

(Effective 08/13/2015)

Part I—Applicability

9VAC5-85-10. Applicability.

Part II—Federal (Title V) Operating Permit Actions

9VAC5-85-20. Federal (Title V) operating permit actions.

9VAC5-85-30. Definitions.

Part III—Prevention of Significant Deterioration Area Permit Actions

9VAC5-85-40. Prevention of Significant Deterioration Area permit actions.

9VAC5-85-50. Definitions.

Part IV—State Operating Permit Actions

9VAC5-85-60. State operating permit actions.

9VAC5-85-70. Definitions.

Chapter 130—Open Burning

(Effective 07/15/2015)

Part I—General Provisions

9VAC5-130-10. Applicability. 9VAC5-130-20. Definitions.

Part II—Volatile Organic Compound Emissions Control Areas

9VAC5-130-30. Open burning prohibitions. 9VAC5-130-40. Permissible open burning.

Part III—Special Statewide Requirements for Forestry, Agricultural and Highway Programs

9VAC5-130-50. Forest management, agricultural practices and highway construction and maintenance programs.

Part IV—Local Ordinances

9VAC5-130-100. Local ordinances on open burning.

Chapter 151—Transportation Conformity

(Effective 11/16/2016)

Part I—General Definitions

9VAC5-151-10. Definitions.

Part II—General Provisions

9VAC5-151-20. Applicability.

9VAC5-151-30. Authority of board and DEQ.

Part III—Criteria and Procedures for Making Conformity Determinations

9VAC5-151-40. General.

9VAC5-151-50. Designated provisions.

9VAC5-151-60. Word or phrase substitutions.

9VAC5-151-70. Consultation.

Chapter 160—General Conformity

(Effective 05/15/2017)

Part I—General Definitions

9VAC5-160-10. General.

9VAC5-160-20. Terms defined.

Part II—General Provisions

9VAC5-160-30. Applicability.

9VAC5-160-40. Authority of board and department.

9VAC5-160-80. Relationship of state regulations to federal regulations.

Part III—Criteria and Procedures for Making Conformity Determinations

9VAC5-160-110. General.

9VAC5-160-120. Federal agency conformity analysis.

9VAC5-160-130. Reporting requirements.

9VAC5-160-140. Public participation.

9VAC5-160-150. Reevaluation of conformity.

9VAC5-160-160. Criteria for determining conformity of general federal actions.

9VAC5-160-170. Procedures for conformity determinations.

9VAC5-160-180. Mitigation of air quality impacts.

9VAC5-160-190. Savings provision.

* * * * *

[FR Doc. 2019-06875 Filed 4-15-19; 8:45 am]

BILLING CODE 6560-50-P